ENVIRONMENTAL PROTECTION AGENCY

[OPP-2002-0025; FRL-6773-1]

Chlorpyrifos-methyl; Receipt of Request for Registration Cancellation

AGENCY: Environmental Protection Agency (EPA).

ACTION: Notice.

SUMMARY: In accordance with section 6(f)(1) of the Federal Insecticide, Fungicide, and Rodenticide Act (FIFRA), as amended, EPA is issuing a notice of receipt of request by Dow AgroSciences LLC, and Gustafson LLC to voluntarily cancel certain pesticide registrations of products containing the active ingredient chlorpyrifos-methyl. The voluntary cancellations were received from Dow AgroSciences LLC on January 31, 2001 and Gustafson LLC on February 13, 2001. EPA will decide whether to approve the request after consideration of public comments.

DATES: Comments on the requested cancellation of product and use registrations must be submitted to the address provided below by May 24, 2002.

ADDRESSES: Comments may be submitted by mail, electronically, or in person. Please follow the detailed instructions for each method as provided in Unit I. of the SUPPLEMENTARY INFORMATION. To ensure proper receipt by EPA, it is imperative that you identify docket control number OPP-2002-0025 in the subject line on the first page of your response.

FOR FURTHER INFORMATION CONTACT: By mail: Jacqueline Mosby, Special Review and Reregistration Division (7508C), Office of Pesticide Programs, Environmental Protection Agency, 1200 Pennsylvania Ave., NW., Washington, DC 20460; telephone number: (703) 305-6792; e-mail address: mosby.jackie@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number OPP-66284. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-66284 in the subject line on the first page of your response.

1. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-66284. Electronic comments may also be filed online at many Federal Depository Libraries.

2. By mail. Submit your comments to: Public Information and Records Integrity Branch (PIRIB), Information Resources and Services Division (7502C), Office of Pesticide Programs (OPP), Environmental Protection Agency, 1200 Pennsylvania Ave., NW., Washington, DC 20460.

3. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. What Action is the Agency Taking?

A. Background

EPA is publishing this notice in response to registrants' requests to cancel three pesticide products containing chlorpyrifos-methyl. (See the table below for specific information regarding the cancellation requests).

Reregistration Eligibility Decision (RED) documents summarize the findings of EPA's reregistration process for individual chemical cases, and reflect the Agency's decision on risk assessment and risk management for uses of individual pesticides. Chlorpyrifos-methyl belongs to a group of pesticides known as organophosphates (OPs). EPA has issued a Report on FQPA Tolerance Reassessment Progress and Risk Management Decision (TRED) assessing the risks of exposure from chlorpyrifos-methyl. EPA will also consider the cumulative risks from all organophosphates, as they all share a common mechanism of toxicity affecting the nervous system by inhibiting cholinesterase.

In letters received by EPA on January 31, 2001 and February 13, 2001, the registrants of products containing chlorpyrifos-methyl agreed to several voluntary measures to cancel all products with this active ingredient. The registrants are requesting cancellation of these products after determining that they would not be generating or submitting data required by EPA under section 3(c)(2)(B) of FIFRA to support continued registration of chlorpyrifos methyl products.

As part of the Agreement, the signatory, and non-signatory registrants, among other things, agreed to cancel their manufacturing use product (EPA Reg. No. 62719-42) and the liquid formulations (EPA Reg. No. 7501-41 and 62719-43) and will not sell nor distribute the products after December 31, 2003. All sales, distribution, and use of existing stocks of the manufacturing use product and liquid formulations will be allowed until December 31, 2004.

EPA will consider any comments received within 180 days of publication of this notice in the Federal Register prior to cancelling affected uses.

B. Request for Voluntary Cancellation of Manufacturing Use, and Liquid Formulation Products

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation. In addition, section 6(f)(1)(C) of FIFRA requires that EPA provide a 180-day comment period on a request for voluntary termination of any minor agricultural use before granting the request, unless: (1) The registrants request a waiver of the comment period, or (2) the Administrator determines that continued use of the pesticide would pose an unreasonable adverse effect on the environment. EPA anticipates granting the cancellation request shortly after considering the comments received during the 30-day comment period for this notice.

Pursuant to section 6(f)(1)(A) of FIFRA, the following companies have submitted a request to cancel three pesticide products uses registered under section 3 or 24(c) of FIFRA containing chlorpyrifos-methyl. These registrations for which cancellations were requested are in Table 1.

Table 1.—Registrations with Pending Request for Cancellation
Registration No. | Product Name | Intended Effective Date for Cancellation
7501-41 | Gustafson Reldan 4E (43.%) Insecticide | December 31, 2004
62719-42 | Reldan F Insecticidal (97.%) | December 31, 2004
62719-43 | Reldan 4E (43.2%) | December 31, 2004

III. What is the Agency's Authority for Taking This Action?

Section 6(f)(1) of FIFRA provides that a registrant of a pesticide product may at any time request that any of its pesticide registrations be canceled. FIFRA further provides that, before acting on the request, EPA must publish a notice of receipt of any such request in the Federal Register, make reasonable efforts to inform persons who rely on the pesticide, and provide a 30-day period in which the public may comment. Thereafter, the Administrator may approve such a request.

IV. Procedures for Withdrawal of Request

Registrants who choose to withdraw a request for cancellation must submit such withdrawal in writing to the person listed under FOR FURTHER INFORMATION CONTACT, postmarked before May 24, 2002. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will permit persons other than the registrant to sell, distribute, or use existing stocks for 1 year after December 31, 2003. This policy is in accordance with the Agency's statement of policy as prescribed in the Federal Register of June 26, 1991 (56 FR 29362) (FRL-3846-4). Exceptions to this general rule will be made if a product poses a risk concern, or is in noncompliance with reregistration requirements, or is subject to a Data Call-In. In all cases, product-specific disposition dates will be given in the cancellation orders.

Existing stocks are those stocks of registered pesticide products which are currently in the United States and which have been packaged, labeled, and released for shipment prior to the effective date of the cancellation action. Registrants would not sell or distribute products bearing old labeling after the stamped approval date of new labels, i.e., labels that conform to the provisions of this document. The following are the existing stocks provisions for the three products being canceled.

Liquid Formulations and Manufacturing Use Product (7501-41, 62719-43, and 62719-42)

Liquid formulation and manufacturing use products bearing the EPA approved amended labels shall not be sold or distributed by registrants after December 31, 2003. Persons other than registrants may not sell, distribute, or use existing stocks after December 31, 2004. In lieu of putting end use dates on the label, registrants have agreed to notify their distributors of the last use date and the rationale for it.

Exception to these general rules will be made in specific cases when more stringent restrictions on sale, distribution, or use of the products or their ingredients have already been imposed, as in a Special Review action, or where the Agency has identified significant potential risk concerns associated with a particular chemical.

List of Subjects

Environmental protection, Chlorpyrifos-methyl, Pesticides and pests, Stored grain.

Dated: April 2, 2002.
Lois A. Rossi,
Director, Information Resources Services Division, Office of Pesticide Programs.

[FR Doc. 02-9654 Filed 4-23-02; 8:45 am]

BILLING CODE 6560-50-S